FEDERAL COMMUNICATIONS COMMISSION

Notice of Public Information Collection(s) Being Reviewed by the Federal Communications Commission

May 23, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this (these) information collection(s) should submit comments by July 29, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judy B. Herman at 202-418-0214 or via the Internet at Judith-B.Herman@fcc.gov.

SUPPLEMENTARY INFORMATION: OMB Control No.: 3060-0105.

Title: License Qualification Report.

Form No.: FCC Form 430.

Type of Review: Extension of a currently approved collection.

Respondents: Business or other for-profit and not-for-profit institutions.

Number of Respondents: 500.

Estimated Time Per Response: 2 hours.

Frequency of Response: On occasion and annual reporting requirements.

Total Annual Burden: 1,000 hours.

Total Annual Cost: N/A.

Needs and Uses: FCC Form 430 is filed by new applicants or annually by licensees if substantial changes occur in the organizational structure, alien ownership, and character of applicant or licensee. FCC Form 430 is also filed by applicants soliciting authority for assignment or transfer of control. The information will be used by the Commission to determine whether the applicant is legally qualified to become or remain a licensee, as required by the Communications Act of 1934, as amended. The Commission is requesting an extension of the current OMB approval.

OMB Control No.: 3060-0613.

Title: Expanded Interconnection with Local Telephone Company Facilities, CC Docket No. 91-141, Transport Phase II (Third Report and Order).

Form No.: N/A.

Type of Review: Extension of a currently approved collection.

Respondents: Business or other for profit.

Number of Respondents: 64.

Estimated Time Per Response: 5-37 hours.

Frequency of Response: On occasion reporting requirement and third party disclosure requirement.

Total Annual Burden: 832 hours.

Annual Reporting and Recordkeeping Cost Burden: N/A.

Needs and Uses: Tier 1 Local Exchange Carriers (LECs) (except NECA members) are required to make tariff filings to provide certain signaling information to interested parties so that those parties can provide tandem switching services. Tandem switching providers are required to provide certain billing information to those Tier 1 local exchange carriers. The tariffs and cost support information accompanying them are used by the FCC staff to ensure that the tariff rates that are paid for signaling information are just, reasonable, and nondiscriminatory, as required by Sections 201 and 202 of the Communications Act of 1934, as amended.

OMB Control No.: 3060-0725.

Title: Annual Filing of Nondiscrimination Reports (on Quality of Service, Installation and Maintenance) by Bell Operating Companies (BOCs).

Form No.: N/A.

Type of Review: Extension of a currently approved collection.

Respondents: Business or other for-profit entities.

Number of Respondents: 7.

Estimated Time Per Response: 50 hours.

Frequency of Response: Annual reporting requirement.

Total Annual Burden: 350 hours.

Annual Reporting and Recordkeeping Cost Burden: N/A.

Needs and Uses: Bell Operating Companies (BOCs) must submit non-discrimination reports on an annual basis. Without provision of these reports, the Commission would be unable to ascertain whether the BOCs were discriminating in favor of their own payphones. The report allows the Commission to determine how the BOCs will provide competing payphone providers with equal access to all the basic underlying network services that are provided to its own payphones.

OMB Control No.: 3060-0726.

Title: Quarterly Report of Interexchange Carriers Listing the Number of Dial-Around Calls for Which Compensation is Being Paid to Payphone Owners.

Form No.: N/A.

Type of Review: Extension of a currently approved collection.

Respondents: Business or other for profit.

Number of Respondents: 275 respondents; 1,100 responses.

Estimated Time Per Response: 2 hours (.50 hours per response).

Frequency of Response: Quarterly reporting requirement and third party disclosure requirement.

Total Annual Burden: 550 hours.

Annual Reporting and Recordkeeping Cost Burden: N/A.

Needs and Uses: Interexchange carriers responsible for paying per-call compensation to payphone providers must submit a quarterly list of dial-around calls to those payphone providers. The payphone providers need the list to calculate the compensation to be paid by the interexchange carriers. All the requirements would be used to ensure that interexchange carriers comply with their obligations under the Telecommunications Act of 1996.

OMB Control No.: 3060-0817.

Title: Computer III Further Remand Proceedings: BOC Provision of Enhanced Services (ONA Requirements), CC Docket No. 95-20.

Form No.: N/A.

Type of Review: Extension of a currently approved collection.

Respondents: Business or other for profit.

Number of Respondents: 5 respondents; 10 responses.

Estimated Time Per Response: 50 hours.

Frequency of Response: On occasion and semi-annual reporting requirements, third party disclosure requirement.

Total Annual Burden: 270 hours.

Annual Reporting and Recordkeeping Cost Burden: N/A.

Needs and Uses: BOCs are required to post their Comparably Efficient Interconnection (CEI) plans and amendments on their publicly accessible Internet sites. The requirement extends to CEI plans for new or modified telemessaging or alarm monitoring services and for new or amended payphone services. If the BOC receives a good faith request for a plan from someone who does not have Internet access, the BOC must notify that person where a paper copy of the plan is available for public inspection. The CEI plans will be used to ensure that BOCs comply with Commission policies and regulations safeguarding against potential anticompetitive behavior by the BOCs in the provision of information services.

OMB Control No.: 3060-0921.

Title: Petitions for LATA Boundary Modification for the Deployment of Advanced Services.

Form No.: N/A.

Type of Review: Extension of a currently approved collection.

Respondents: Business or other-for profit.

Number of Respondents: 5 respondents; 20 responses.

Estimated Time Per Response: 8 hours (4 petitions, totally 20 petitions annually).

Frequency of Response: On occasion reporting requirement and third party disclosure requirement.

Total Annual Burden: 160 hours.

Annual Reporting and Recordkeeping Cost Burden: N/A.

Needs and Uses: BOCs that petition for LATA boundary modifications to encourage the deployment of advanced services on a reasonable and timely basis are requested to include information in accordance with specified criteria. The criteria set forth in Commission rules will serve to ease the petition process on BOCs by providing guidelines that will serve to narrow the scope of their petitions to the issues and facts that the Commission is primarily concerned with. In addition, the request will also expedite the petition review process by ensuring that petitioners will provide all the information the Commission needs to properly review the requests.

Federal Communications Commission.
Marlene H. Dortch,
Secretary.

[FR Doc. 03-13466 Filed 5-29-03; 8:45 am]

BILLING CODE 6712-01-P